ENVIRONMENTAL PROTECTION AGENCY

[EPA-HQ-OAR-2023-0492; FRL 11430-01-OAR]

Transportation and Climate Division (TCD) Grant Program Reporting Templates: Supplemental Project Application Template and Project Reporting Templates for Diesel Emission Reduction Act (DERA), Clean School Bus (CSB), Clean Heavy Duty (CHD), and Clean Ports Grant Programs; EPA ICR No. 2793.01, OMB Control No. 2060-NEW

AGENCY: Environmental Protection Agency (EPA).

ACTION: Notice.

SUMMARY: The Environmental Protection Agency (EPA) is planning to submit an information collection request (ICR), “Transportation and Climate Division (TCD) Grant Programs ICR” (EPA ICR No. 2793.01, OMB Control No. 2060-NEW) to the Office of Management and Budget (OMB) for review and approval in accordance with the Paperwork Reduction Act. Before doing so, EPA is soliciting public comments on specific aspects of the proposed information collection as described below. This is a new ICR. An Agency may not conduct or sponsor and a person is not required to respond to a collection of information unless it displays a currently valid OMB control number.

DATES: Comments must be submitted on or before December 26, 2023.

ADDRESSES: Submit your comments, referencing Docket ID No. EPA-HQ-OAR-2023-0492, online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Timothy Thomas, Office of Transportation and Air Quality, (6406A), Environmental Protection Agency, 1200 Pennsylvania Ave. NW, Washington, DC 20460; telephone number: 734-214-4465; fax number: 202-343-2803; email address: thomas.tim.l@epa.gov.

SUPPLEMENTARY INFORMATION: This is a request for approval of a new collection. An agency may not conduct or sponsor, and a person is not required to respond to, a collection of information unless it displays a currently valid OMB control number. http://www.epa.gov/dockets This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The ICR package will be submitted to OMB for review and approval.

Abstract: This supporting statement is for an Information Collection Request (ICR) for four mobile source related grant programs administered by the Transportation and Climate Division (TCD), within Environmental Protection Agency's (EPA) Office of Transportation and Air Quality (OTAQ). These four programs include: Diesel Emission Reduction Act (DERA) Grant Program, Clean School Bus (CSB) Grant Program, Clean Heavy-Duty (CHD) Grant Program, and Clean Ports Grant Program.

The DERA Grants Program and the Clean School Bus Grant Program currently collect information under an existing ICR, the General Administrative Requirements for Assistance Programs (Renewal), ICR No. 2030-0020. The EPA currently uses ICR No. 2030-0020 to collect information for most major elements of grants administration, but in order to ease the burden for applicants, awardees, and Agency staff, as well as enrich data quality across programs, the Agency needs to be able to collect information via new reporting instruments, specifically program-specific, fillable data templates. This ICR for these four programs is requesting clearance to cover fillable data templates for three phases of the grant lifecycle: initial application, quarterly reporting, and final reporting. Notably, for successful grant applicants, the information in data templates collected during the application phase of the grant lifecycle will flow into the data templates for the quarterly and final reporting periods, enabling these templates to capture data efficiently throughout the life of the entire award.

TCD uses approved procedures and forms to collect necessary information to operate its grant programs and has been providing grants under DERA since 2008. EPA is preparing to launch the 2024 Clean Port Program in late winter 2024, the 2024 Clean Heavy Duty in early spring 2024, as well as the 2024 DERA grant program in summer 2024, and overseeing the 2023 Clean School Bus Grantees, who are expected to begin reporting in mid-2024.

While these programs each have unique statutory requirements, there are key aspects that unite them as mobile source emissions reduction efforts, and by combining them as a cohort of programs under one ICR, EPA aims to enrich data quality across our programs and to ease burden on applicants and awardees considering applying for multiple programs. Additionally, collecting data via program-specific, fillable data templates that supplement the main application document will enhance the Agency's oversight of these projects as directed by Congress. Further, doing so will also provide critical real-world performance data that the Agency would not otherwise be able to procure, which can inform future research and policy decisions related to OTAQ's mission to protect human health and the environment by reducing air pollution and greenhouse gas emissions from mobile sources and advancing clean fuels and technology.

Respondents/affected entities: Entities potentially affected by this action are those interested in applying for grants under EPA's CSB, DERA, Clean Heavy Duty, and Clean Ports programs and include but are not limited to the following NAICS (North American Industry Classification System) codes: 23 Construction; 482 Rail Transportation; 483 Water Transportation; 484 Truck Transportation; 485 Transit and Ground Passenger Transportation; 4854 School and Employee Bus Transportation; 48831 Port and Harbor Operations; 61111 Elementary and Secondary Schools; 61131 Colleges, Universities, and Professional Schools; 9211 Executive, Legislative, and Other Government Support; and 9221 Justice, Public Order, and Safety Activities.

Respondent's obligation to respond: Mandatory for grant recipients.

Estimated number of respondents: 50 CSB, 112 DERA, 100 Clean Ports and 50 Clean Heavy Duty grant recipients annually.

Frequency of response: One initial report, 3 quarterly reports per year the grant is active, and one final report.

Total estimated burden: 19,701 hours (per year). Burden is defined at 5 CFR 1320.03(b).

Total estimated cost: $1,104,668 (per year), which includes $0 annualized capital or operation & maintenance costs.

Changes in the Estimates: This is a new collection.

Karl Simon,
Director, Transportation and Climate Division, Office of Air and Radiation.

[FR Doc. 2023-23770 Filed 10-26-23; 8:45 am]

BILLING CODE 6560-50-P